DEPARTMENT OF THE INTERIOR

Submission of Information Collection to the Office of Management and Budget for Review Under the Paperwork Reduction Act

AGENCY: Bureau of Indian Affairs, Interior.

ACTION: Notice of renewal of a currently approved information collection.

SUMMARY: As required by the Paperwork Reduction Act of 1995, this notice announces that the Bureau of Indian Affairs has submitted to the Office of Management and Budget a request for renewal of a currently approved information collection titled The Indian Service Population and Labor Force Estimates, OMB Control No. 1076-0147. You are invited to send comments on this collection to the Office of Management and Budget at the address listed in the ADDRESSES section.

DATES: Submit comments on or before May 1, 2002.

ADDRESSES: Written comments should be sent directly to the Office of Management and Budget, Office of Information and Regulatory Affairs, Attention: Desk Officer for the Department of the Interior, Room 10102, 725 17th Street NW, Washington, DC 20503.

Send a copy of your comments to Mr. Harry Rainbolt, Budget Officer, Office of Tribal Services, Bureau of Indian Affairs, Department of the Interior, 1849 C Street NW, MS-4660-MIB, Washington, DC 20240.

FOR FURTHER INFORMATION CONTACT: Mr. Harry Rainbolt, (202) 208-3463.

SUPPLEMENTARY INFORMATION: A 60-day notice requesting public comments was published in the Federal Register on October 19, 2001 (66 FR 53248). No comments were received.

I. Abstract

The information is mandated by Congress through Public Law 102-477, Indian Employment, Training and Related Services Demonstration Act of 1992, Section 17(a). The Act requires the Secretary to develop, maintain and publish, not less than biennially, a report on the population, by gender, income level, age, service area, and availability for work. The information is used by the U.S. Congress, other Federal Agencies, State and local governments and private sectors for the purpose of developing programs, planning, and to award financial assistance to American Indians.

II. Request for Comments

We specifically request your comments on the following:

1. Whether the collection of information is necessary for the proper performance of the functions of the BIA, including whether the information will have practical utility;

2. The accuracy of the BIA's estimate of the burden of the information collection, including the validity of the methodology and assumptions used;

3. The quality, utility and clarity of the information to be collected; and,

4. How to minimize the burden of the information collection on those who are to respond, including the use of appropriate automated electronic, mechanical or other forms of information technology.

Please note that an agency may not conduct or sponsor, and a person is not required to respond, to a collection of information unless it displays a currently valid OMB control number. All comments will be available for public inspection at 1849 C Street NW, Room 4660 during the hours of 8:00 a.m. to 4:00 p.m. EST, except weekends and Federal holidays. If you wish your name and address withheld from the public view, you must state so prominently at the beginning of your comments. We will honor your request to the extent of law.

III. Data.

Title: Department of the Interior, Bureau of Indian Affairs, Indian Service Population and Labor Force Estimate.

OMB Control Number: 1076-0147.

Affected Entities: American Indians and Alaska Natives, members and non-members, who are living on or near the tribe's defined service area and who are eligible for Bureau of Indian Affairs services.

Frequency of Response: Biennially.

Estimated Number of Biennial Responses: 561.

Estimated Time per Response: ½ hour.

Estimated Total Annual Burden Hours: 140 (biennially: 280).

Dated: March 11, 2002.
Neal A. McCaleb,
Assistant Secretary—Indian Affairs.

[FR Doc. 02-7741 Filed 3-29-02; 8:45 am]

BILLING CODE 4310-4J-P